DEPARTMENT OF COMMERCE

International Trade Administration

[C-570-955]

Certain Magnesia Carbon Bricks From the People's Republic of China: Rescission of Countervailing Duty Administrative Review; 2014

AGENCY: Enforcement and Compliance, International Trade Administration, U.S. Department of Commerce.

SUMMARY: On September 13, 2016, the Department of Commerce (the Department) published the preliminary results of the administrative review of the countervailing duty (CVD) order on certain chemically-bonded magnesia carbon bricks (MCBs) from the People's Republic of China (PRC). The period of review (POR) is January 1, 2014, through December 31, 2014. The Department preliminarily found no evidence of any reviewable entries and received no comments on the preliminary results. Therefore, the Department is rescinding the administrative review of the CVD order on MCBs from the PRC.

DATES: Effective January 13, 2017.

FOR FURTHER INFORMATION CONTACT: Andrew Huston, AD/CVD Operations, Office VII, Enforcement and Compliance, International Trade Administration, U.S. Department of Commerce, 14th Street and Constitution Avenue NW., Washington, DC 20230; telephone: (202) 482-4261.

SUPPLEMENTARY INFORMATION:

Background

On September 13, 2016, the Department published the Preliminary Results.¹ In accordance with 19 CFR 351.309(c)(1)(ii), we invited parties to comment on our Preliminary Results. No parties submitted comments.

¹ See Certain Magnesia Carbon Bricks from the People's Republic of China: Final Results of Countervailing Duty Administrative Review; 2014, 81 FR 62870 (September 13, 2016) (Preliminary Results).

Rescission

It is the Department's practice to rescind an administrative review of a CVD order, pursuant to CFR 351.213(d)(3), when there are no reviewable entries of subject merchandise during the POR for which liquidation is suspended.² Normally, upon completion of an administrative review, the suspended entries are liquidated at the CVD assessment rate calculated for the review period. See 19 CFR 351.212(b)(1). Therefore, for an administrative review to be conducted, there must be a reviewable, suspended entry that the Department can order CBP to liquidate at the newly calculated CVD assessment rate. Accordingly, in the absence of suspended entries of subject merchandise during the period of this administrative review (January 1, 2014, through December 31, 2014), we are rescinding this administrative review of the CVD order on MCBs from the PRC.

² See, e.g., Certain Welded Carbon Steel Standard Pipe and Tube from Turkey: Notice of Final Rescission of Countervailing Duty Administrative Review, In Part, 77 FR 6542 (February 8, 2012). In the Preliminary Results the Department stated “As is our practice, the Department finds that it is not appropriate to rescind this review, but, rather, to complete this review and to issue appropriate instructions to CBP based on the final results of this review.” This sentence was included in error. The Department issues preliminary and final results in so-called “no shipment” reviews in antidumping proceedings only. See, e.g., Silicomanganese from India: Preliminary Results of Antidumping Duty Administrative Review; 2014-2015, 81 FR 28826 (May 10, 2016) and accompanying Decision Memorandum at 3.

We are issuing and publishing this notice in accordance with sections 751(a)(1) and 777(1) of the Tariff Act of 1930, as amended, and 19 CFR 351.213(d)(4).

Dated: January 9, 2017.
Gary Taverman,
Acting Deputy Assistant Secretary for Antidumping and Countervailing Duty Operations.

[FR Doc. 2017-00689 Filed 1-12-17; 8:45 am]

BILLING CODE 3510-DS-P